DEPARTMENT OF AGRICULTURE

Forest Service

Medicine Bow-Routt National Forests and Thunder Basin National Grassland; WY; Thunder Basin National Grassland Plan Amendment

AGENCY: Forest Service, USDA.

ACTION: Notice of intent to prepare an environmental impact statement.

SUMMARY: The Thunder Basin National Grassland (Grassland) will prepare an environmental impact statement (EIS) for the 2020 Thunder Basin National Grassland Plan Amendment. The Grassland proposes to amend prairie dog management direction in the Land and Resource Management Plan, including changes to management area boundaries and changes to grassland-wide, geographic area, and management area plan components that pertain to prairie dogs, short-stature prairie habitat, and associated species management.

DATES: Comments concerning the scope of the analysis must be received by May 20, 2019. The Draft EIS is expected in October 2019, and the Final EIS is expected May 2020.

ADDRESSES: Please submit comments via one of the following methods:

1. Public participation portal (preferred): https://cara.ecosystem-management.org/Public//CommentInput?Project=55479.

2. Mail: Thunder Basin Plan Amendment Comments, Thunder Basin National Grassland Supervisor's Office, 2468 Jackson St., Laramie, WY 82070.

All comments, including names and addresses when provided, are placed in the record and are available for public inspection.

FOR FURTHER INFORMATION CONTACT: Monique Nelson at 307-275-0956 or email monique.nelson@usda.gov. Individuals who use telecommunication devices for the deaf (TDD) may call the Federal Information Relay Service (FIRS) at 1-800-877-8339 between 8 a.m. and 8 p.m., Eastern Time, Monday through Friday.

SUPPLEMENTARY INFORMATION: The Forest Service proposes to amend the Thunder Basin National Grassland Land and Resource Management Plan. Substantive requirements of the 2012 Planning Rule (36 CFR 219) that are likely to be directly related and therefore applicable to the amendment are 219.8(a) and (b), ecological and social and economic sustainability; 219.9, diversity of plant and animal communities; and 219.10(a), integrated resource management for ecosystem services and multiple use.

Purpose and Need for Action

The purpose of this project is to amend the Thunder Basin National Grassland Land and Resource Management Plan to better balance prairie dog colony conservation and control with other Grassland uses. Specifically, an amendment is needed to:

• Refocus management in Management Area 3.63, “Black-footed ferret reintroduction Habitat,” to emphasize rangelands with short-stature vegetation that provide for multiple uses, including providing habitat for prairie dogs and associated species and providing livestock forage.

• Delineate more logical boundaries for Management Area 3.63, for example by strategically using natural topographic and hydrologic barriers and incorporating boundary management zones.

• Increase the availability of management options for prairie dog colony conservation and control, including allowing lethal prairie dog control within Management Area 3.63.

• More effectively manage prairie dog colony encroachment from the National Grassland onto private and state land. Encroachment concerns include public health, agricultural production, and land values.

• Align with the Wyoming Game and Fish Department “Wyoming Black-footed Ferret Management Plan” (2018).

• Ensure management direction identifies habitat requirements needed to support viable populations of prairie dogs and associated species, such as mountain plover, burrowing owl, and swift fox, and that management would not preclude future reintroduction of black-footed ferret.

• Enhance engagement with partners for collaborative implementation of new plan direction.

Proposed Action

A collaborative stakeholder group led by the Wyoming Department of Agriculture worked for several months in 2018 to develop recommendations for a proposed action. To meet the needs identified above and based on the recommendations of the collaborative workgroup, the Thunder Basin National Grassland proposes the following:

1. Change the existing Thunder Basin National Grassland Management Area 3.63, “Black-footed Ferret Reintroduction Habitat,” to a new Management Area 3.67, “Rangelands with Short-stature Vegetation Emphasis.”

2. Draw the boundaries for Management Area 3.67 to strategically use natural barriers to prairie dog movement such as the Cheyenne River and Rochelle Hills and to reduce conflicts in prairie dog management.

3. Eliminate use of the Black-tailed Prairie Dog Conservation Assessment and Management Strategy for the Thunder Basin National Grassland (2009, 2015), and amend the Thunder Basin National Grassland Land and Resource Management Plan to include all necessary direction for prairie dog management.

4. Establish a minimum ¼ mile boundary management zone in Management Area 3.67 where the Grassland shares a border with private or State property, and allow landowners to request up to a ¾ mile boundary management zone for special circumstances. Within boundary management zones, lethal control of prairie dogs in cooperation with other landowners will be the priority.

5. Where possible, adopt use of the Natural Resources Conservation Service's Ecological Site Descriptions in Management Area 3.67 as the basis to describe plant communities, evaluate current and desired conditions, and maintain or improve native vegetation and wildlife habitat.

6. Within Management Area 3.67, manage active prairie dog colonies toward a target of 10,000 acres to support viable populations of associated species such as mountain plover, burrowing owl, and swift fox. Colonies would be distributed across the landscape and vary in size up to approximately 1,000 acres with an emphasis on colonies of 100 to 400 acres. At least one complex in Management Area 3.67 would be managed for at least 1,500 acres of active prairie dog colonies.

7. Allow use of a suite of tools for prairie dog management throughout Management Area 3.67, including but not limited to translocation, application of Deltamethrin (i.e., “Delta dust” or equivalent), fences, vegetative barriers, and rodenticides. Do not allow use of anticoagulant rodenticides.

8. Allow recreational shooting in Management Area 3.67 with seasonal restrictions in place when necessary.

9. Consider recommendations for prairie dog management from a third-party collaborative stakeholder group.

Lead and Cooperating Agencies

The Forest Service will be the lead agency. The Wyoming Department of Agriculture, Wyoming Game and Fish Department, Campbell County, Converse County, and Weston County have been identified as formal cooperating agencies at this time. Other federal, State, and local agencies; tribes; and other stakeholders that are interested in or affected by the proposed action are invited to participate in the scoping process. If eligible, they may request or be asked by the Forest Service to participate in the environmental analysis process as a cooperating agency.

Responsible Official

Medicine Bow-Routt National Forests and Thunder Basin National Grassland Supervisor Russell Bacon.

Nature of Decision To Be Made

The responsible official will decide: (1) Whether or not to implement the plan amendment as described in the proposed action, (2) whether or not to implement the plan amendment as described in a future alternative analyzed in detail, (3) whether or not to implement a combination of alternatives analyzed in detail, (4) whether or not to adopt amended grassland-wide, geographic area, and management area direction consistent with the selected alternative(s), and (5) whether to take no action.

Scoping Process

This Notice of Intent initiates the scoping process, which guides the development of the environmental impact statement. The Forest Service is seeking information, comments, and assistance from Tribal Governments; Federal, State, and local agencies; and individuals and organizations interested in or affected. During the weeks of May 6 or May 13, 2019, the Forest Service will host one public meeting in Douglas, WY and one online publc webinar. Information about public meetings is posted online with a scoping document that includes detailed information on the proposed action, maps, and proposed amended plan direction (e.g., desired conditions, objectives, standards, and guidelines) at: http://www.fs.fed.us/nepa/nepa_project_exp.php?project=55479. Individuals may also provide comments and sign up to be on the electronic mailing list at that site.

Comments that address specific environmental impacts that are of concern or modifications to the proposal will be most useful in the development of the environmental impact statement and plan amendment. Comments received in response to this solicitation, including names and addresses of those who comment, will be part of the public record for this proposed action.

The decision on this proposed plan amendment will be subject to the objection process for the planning process (36 CFR part 219, subpart B). Only those individuals and entities who submit substantive formal comments related to this proposed plan amendment during the opportunities for public comment as provided in 36 CFR part 219, subpart A may file an objection. The burden is on the objector to demonstrate compliance with requirements for objection (36 CFR 219.53).

Comments received in response to this solicitation, including names and addresses of those who comment, will be part of the public record for this proposed action. Comments submitted anonymously will be accepted and considered, however.

Dated: March 22, 2019.
Allen Rowley,
Acting Associate Deputy Chief, National Forest System.

[FR Doc. 2019-07809 Filed 4-17-19; 8:45 am]

BILLING CODE 3411-15-P